FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010050-013.

Title: U.S. Flag Discussion Agreement.

Parties: American President Lines, Ltd.; A.P. Moller-Maersk A/S; Farrell Lines Inc.; Lykes Lines Limited, LLC; and P&O Nedlloyd Limited.

Synopsis: The amendment adds Farrell Lines, Lykes Lines, and P&O Nedlloyd as parties to the agreement.

Agreement No.: 010979-040.

Title: Caribbean Shipowners Association.

Parties: Bernuth Lines, Ltd.; CMA CGM, S.A.; Crowley Liner Services, Inc.; Interline Connection, N.V.; Lykes Lines Limited; Seaboard Marine Ltd.; Seafreight Line, Ltd.; Sea Star Line, LLC; TMM Lines, LLC; Tropical Shipping and Construction Co., Ltd.; and Zim Israel Navigation Co., Ltd.

Synopsis: The amendment adds authority to discuss and share data on trade projections, clarifies authority regarding discussion of vessel capacity in the trade, revises the members' service contract authority under the agreement, provides for the polling of members by email, revises the delegations of authority under the agreement, deletes obsolete language, and makes a number of technical changes.

Agreement No.: 010982-036.

Title: Florida-Bahamas Shipowner and Operators Association.

Parties: Atlantic Caribbean Line, Inc.; Caicos Cargo Ltd.; Crowley Liner Services, Inc.; G&G Marine, Inc.; Pioneer Shipping Ltd.; Seaboard Marine, Ltd.; and Tropical Shipping and Construction Co., Ltd.

Synopsis: The amendment clarifies that the members are not authorized to discuss specific individual service contracts, adds authority to exchange information relating to uniform or differential rates, and makes minor technical changes to the agreement.

Agreement No.: 011880.

Title: Hanjin/U.S. Lines Limited Slot Charter Agreement.

Parties: Hanjin Shipping Co., Ltd. and U.S. Lines Limited.

Synopsis: The agreement authorizes Hanjin to sell slots to U.S. Lines in the trade between China and the United States Pacific Coast.

Dated: April 30, 2004.
By Order of the Federal Maritime Commission.
Bryant L. VanBrakle,
Secretary.

[FR Doc. 04-10222 Filed 5-4-04; 8:45 am]

BILLING CODE 6730-01-U